DEPARTMENT OF TRANSPORTATION

Federal Highway Administration

Notice of Final Federal Agency Actions on Proposed Highway in North Carolina

AGENCY: Federal Highway Administration (FHWA), DOT.

ACTION: Notice of limitation on claims for Judicial Review of actions by FHWA and other Federal Agencies.

SUMMARY: This notice announces actions taken by FHWA and the other Federal agencies that are final. The actions relate to a proposed new crossing of Currituck Sound along the North Carolina Coast in Currituck and Dare Counties, North Carolina. This project, known as the Mid-Currituck Bridge Project, is also known as State Transportation Improvement Program Project R-2576. Those actions grant licenses, permits, and approvals for the project.

DATES: A claim seeking judicial review of the Federal agency actions on the highway project will be barred unless the claim is filled on or before August 26, 2019. If the Federal law that authorizes judicial review of a claim provides a time period of less than 150 days for filing such claim, then that shorter time period still applies.

FOR FURTHER INFORMATION CONTACT: Mr. Clarence W. Coleman, P. E., Preconstruction and Environment Director, Federal Highway Administration, 310 New Bern Avenue, Suite 410, Raleigh, North Carolina, 27601-1418; Telephone: (919) 747-7014; email: clarence.coleman@dot.gov. FHWA North Carolina Division Office's normal business hours are 8 a.m. to 5 p.m. (Eastern Time). Mr. Roger D. Rochelle, P.E., Chief Engineer-Innovative Delivery, North Carolina Turnpike Authority (NCTA), 1578 Mail Service Center, Raleigh, North Carolina 27699-1578; Telephone (919) 707-2710, email: rdrochelle@dot.state.nc.us. NCTA's normal business hours are 8 a.m. to 5 p.m. (Eastern Time).

SUPPLEMENTARY INFORMATION: Notice is hereby given that FHWA and other Federal agencies have taken final agency actions subject to 23 U.S.C. 139(l)(1) by issuing a Record of Decision (ROD) for the following highway project in the State of North Carolina: the Mid-Currituck Bridge project, which proposes to create a second crossing of Currituck Sound—north of the Wright Memorial Bridge—to help alleviate congestion and improve the flow of evacuation traffic in the event of a hurricane or severe storm.

The 7-mile toll project includes a two-lane bridge that spans Currituck Sound and connects the Currituck County mainland to the Outer Banks. It also includes a second two-lane bridge that spans Maple Swamp on the Currituck County mainland, connecting Aydlett to U.S. 158.

The actions by the Federal agencies, and the laws under which such actions were taken, are described in the Final Environmental Impact Statement (EIS) for the project, approved on January 12, 2012, and the FHWA ROD issued on March 7, 2019 approving the Mid-Currituck Bridge project, and in other documents in the project records. The Final EIS, ROD, and other documents in the project file are available by contacting FHWA or the NCDOT Turnpike Authority at the addresses provided above. The Final EIS and ROD along with referenced technical documents can be viewed and downloaded from the project website at https://www.ncdot.gov/projects/mid-currituck-bridge/Pages/default.aspx or viewed at the Turnpike Authority office at 1 South Wilmington Street, Raleigh, North Carolina, 27601.

The actions by the Federal agencies, and the laws under which such actions were taken, are described in the ROD for the project and in other documents in the project file. The ROD and other documents in the project file are available by contacting FHWA or NCDOT at the addresses provided above. This notice applies to all Federal agency decisions as of the issuance date of this notice and all laws under which such actions were taken, including but not limited to:

1. General: National Environmental Policy Act (NEPA) [42 U.S.C. 4321-4351]; Federal-Aid Highway Act [23 U.S.C. 109].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and Section 1536], Marine Mammal Protection Act [16 U.S.C. 1361], Anadromous Fish Conservation Act [16 U.S.C. 757(a)-757(g)], Fish and Wildlife Coordination Act [16 U.S.C. 661-667(d)], Migratory Bird Treaty Act [16 U.S.C. 703-712], Magnuson-Stevenson Fishery Conservation and Management Act of 1976, as amended [16 U.S.C. 1801 et seq.].

5. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act [33 U.S.C. 1251-1377 (Section 404, Section 401, Section 319)]; Coastal Barrier Resources Act [16 U.S.C. 3501-3510]; Coastal Zone Management Act [16 U.S.C. 1451-1465]; Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act [16 U.S.C. 3921, 3931]; TEA-21 Wetlands Mitigation [23 U.S.C. 103(b)(6)(m), 133(b)(11)]; Flood Disaster Protection Act [42 U.S.C. 4001-4128].

8. Hazardous Materials: Comprehensive Environmental Response, Compensation, and Liability Act (CERCLA) [42 U.S.C. 9601-9675]; Superfund Amendments and Reauthorization Act of 1986 (SARA); Resource Conservation and Recovery Act (RCRA) [42 U.S.C. 6901-6992(k)].

9. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1)

Issued on: March 20, 2019.
Clarence W. Coleman,
Preconstruction and Environment Director, Raleigh, North Carolina.

[FR Doc. 2019-06006 Filed 3-28-19; 8:45 am]

BILLING CODE 4910-RY-P